DEPARTMENT OF COMMERCE

Foreign-Trade Zones Board

[Order No. 1711]

Approval for Manufacturing Authority Foreign-Trade Zone 196 ATC Logistics & Electronics (Cell Phone Kitting) Fort Worth, TX

Pursuant to its authority under the Foreign-Trade Zones Act of June 18, 1934, as amended (19 U.S.C. 81a-81u), the Foreign-Trade Zones Board (the Board) adopts the following Order:

Whereas, ATC Logistics & Electronics (ATCLE), an operator of Foreign-Trade Zone 196, has requested manufacturing authority within FTZ 196 in Fort Worth, Texas, (FTZ Docket 19-2010, filed 3/30/2010);

Whereas, notice inviting public comment has been given in the Federal Register (75 FR 17691, 4/7/2010) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application for manufacturing authority under zone procedures within FTZ 196 on behalf of ATC Logistics & Electronics, as described in the application and Federal Register notice, is approved, subject to the FTZ Act and the Board's regulations, including Section 400.28.

Signed at Washington, DC, October 7, 2010.
Ronald K. Lorentzen,
Deputy Assistant Secretary for Import Administration, Alternate Chairman, Foreign-Trade Zones Board.

[FR Doc. 2010-26276 Filed 10-18-10; 8:45 am]

BILLING CODE P